DEPARTMENT OF HOMELAND SECURITY

Coast Guard

33 CFR Part 117

[Docket No. USCG-2013-1072]

RIN 1625-AA09

Drawbridge Operation Regulation; Terrebonne Bayou, LA

AGENCY: Coast Guard, DHS.

ACTION: Final rule.

SUMMARY: The Coast Guard is finalizing the interim rule that governs the operating schedule of the St. Ann swing bridge across Terrebonne Bayou, mile 28.8, at Bourg, Terrebonne Parish, Louisiana. The rule will allow the bridges to operate on signal if at least 24 hours advanced notice is given. This rule increases the efficiency of operations allowing for the safe navigation of vessels through the bridge while recognizing the low volume of vessel traffic through the bridge.

DATES: This final rule is effective June 16, 2014.

ADDRESSES: Documents mentioned in this preamble are part of Docket Number USCG-2013-1072. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mr. David Frank; Bridge Administration Branch, Eighth Coast Guard District; telephone 504-671-2128, email david.m.frank@uscg.mil. If you have questions on viewing or submitting material to the docket, call Cheryl F. Collins, Program Manager, Docket Operations, telephone (202) 366-9826.

SUPPLEMENTARY INFORMATION:

Table of Acronyms

CFR Code of Federal Regulations

DHS Department of Homeland Security

USCG United States Coast Guard

NEPA National Environmental Policy Act

§ Section Symbol

U.S.C. United States Code

MGL Mean Gulf Level

SR State Route

A. Regulatory History and Information

On February 12, 2014, we published an interim rule with request for comments entitled, “Drawbridge Operation Regulation; Terrebonne Bayou, LA” in the Federal Register (79 FR 8270). We received no comments on the interim rule. No public meeting was requested, and none was held.

B. Basis and Purpose

The U.S. Coast Guard received a request to modify the existing operating schedule of the new St. Ann swing bridge across Terrebonne Bayou, mile 28.8, at Bourg, Terrebonne Parish, Louisiana. The request follows completion of the new swing bridge and accommodates current traffic needs, rather than opening on signal at all times. As requested, the bridge will open on signal if at least 24 hours advanced notification is given.

This change allows the bridge owner to open the bridge for vessel traffic with sufficient notice while removing the requirement that a bridge tender be on the bridge at all times.

Since completion of the new bridge, no openings have been requested by mariners and several of the bridges downstream of the swing bridge are operated under special operating regulations published in 33 CFR 117.505. These special operating regulations increase efficiency and currently operate without issue. The SR 24 (Presquille Isle) bridge, located 2.5 miles upstream of the St. Ann swing bridge at mile 31.3 in Bourg, is a fixed bridge with a vertical clearance of 3.4 feet above mean high water, elevation 3.4 feet Mean Gulf Level (MGL). The primary affect of this change is limited to the property owners located on and vessels transiting this waterway between the St. Ann swing bridge and the SR 24 (Presquille Isle) bridge.

C. Discussion of Comments, Changes and the Final Rule

An interim rule with a request for comments was established on February 12, 2014. No comments were received and no objections to the interim rule was received.

No changes to the regulatory text were made between the interim rule and the final rule. Therefore, this final rule retains paragraph (b) of the interim rule in 33 CFR 117.505 for this waterway. Further, it retains paragraph (a) and the redesignation of the already existing paragraphs for bridges at mile markers above 28.8. This rule allows the bridge to open on signal if at least 24 hours advanced notification is given.

As no vessels have transited through this bridge site in the last two years and only 15 openings were requested since 2008, this regulation will have a minimal affect on the property owners located in and vessels transiting the area. Additionally, the bridge can be opened in less than four hours if there is an emergency on the waterway.

E. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders.

This rule allows the limited number of vessels using this stretch of the waterway the opportunity to transit with proper notification. As this bridge has not opened for vessel traffic during the two years (11/2011 to 11/2013) that the new bridge was under construction and only 15 times since 2008, this regulation will have a minimal affect on those property owners and vessels who wish to use the waterway.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule would not have a significant economic impact on a substantial number of small entities.

This rule will affect the following entities, some of which may be small entities: The property owners or vessel operators who wish to transit on Terrebonne Bayou between mile 28.8 and mile 31.3. However, as provided in this rule and currently under 33 CFR 117.505, vessel owners will still be able to transit the bridge if proper notification is given and in the case of an emergency.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that might disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guides the Coast Guard in complying with the National Environmental Policy Act of 1969 (NEPA) (42 U.S.C. 4321-4370f), and have made a preliminary determination that this action is one of a category of actions which do not individually or cumulatively have a significant effect on the human environment. This rule simply promulgates the operating regulations or procedures for drawbridges. This rule is categorically excluded, under figure 2-1, paragraph (32)(e), of the Instruction.

Under figure 2-1, paragraph (32)(e), of the Instruction, an environmental analysis checklist and a categorical exclusion determination are not required for this rule.

List of Subjects in 33 CFR Part 117

Bridges.

Accordingly, the interim rule amending 33 CFR part 117 which was published at 79 FR 8270 on February 12, 2014 is adopted as a final rule without change.

Dated: May 19, 2014.
Kevin S. Cook,
Rear Admiral, U.S. Coast Guard, Commander, Eighth Coast Guard District.

[FR Doc. 2014-13270 Filed 6-13-14; 8:45 am]

BILLING CODE 9110-04-P